DEPARTMENT OF ENERGY

Federal Energy Regulatory Commission

[Docket No. RP02-63-000]

Transwestern Pipeline Company; Notice of Proposed Changes in FERC Gas Tariff

December 5, 2001.

Take notice that on November 30, 2001, Transwestern Pipeline Company (Transwestern) tendered for filing to become part of Transwestern's FERC Gas Tariff, Second Revised Volume No. 1, the following tariff sheets to be effective January 1, 2002:

126 Revised Sheet No. 5

31 Revised Sheet No. 5A

23 Revised Sheet No. 5A.02

23 Revised Sheet No. 5A.03

28 Revised Sheet No. 5B

Transwestern states that the purpose of this filing is to set forth the approved 2002 Gas Research Institute (GRI) surcharges for the 2002 calendar year to be effective January 1, 2002 in accordance with the Commission's Order approving The Gas Research Institute's Year 2002 Research, Development and Demonstration Program and 2002-2 006 Five-Year Plan issued on September 19, 2001 in Docket No. RP01-434-000.

Transwestern states that copies of the filing were served upon Transwestern's customers and interested State Commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30557 Filed 12-10-01; 8:45 am]

BILLING CODE 6717-01-P